DEPARTMENT OF TRANSPORTATION

Coast Guard

[USCG 2000-7379]

Information Collection Under Review by the Office of Management and Budget (OMB): OMB Control Number 2115-0644

AGENCY: Coast Guard, DOT.

ACTION: Request for comments.

SUMMARY: In compliance with the Paperwork Reduction Act of 1995, this request for comments announces the Coast Guard has forwarded one Information Collection Report (ICR) abstracted below to OMB for review and comment. This ICR describes the information we seek to collect from the public. Review and comment by OMB ensure that we impose only paperwork burdens commensurate with our performance of duties.

DATES: Please submit comments on or before October 11, 2000.

ADDRESSES: Please send comments to both (1) the Docket Management System (DMS), U.S. Department of Transportation (DOT), room PL-401, 400 Seventh Street SW., Washington, DC 20590-0001, and (2) the Office of Information and Regulatory Affairs (OIRA), Office of Management and Budget (OMB), 725 17th Street N.W., Washington, DC 20503, attention, Desk Officer, USCG.

Copies of the complete ICR are available for inspection and copying in public docket USCG 2000-7379 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION

Regulatory History

This request constitutes the 30-day notice required by OMB. The Coast Guard has already published (65 FR 100 (May 23, 2000)) the 60-day notice required by OMB. That request elicited no comments.

Request for Comments

The Coast Guard invites comments on the proposed collection of information to determine whether the collection is necessary for the proper performance of the functions of the Department. In particular, the Coast Guard would appreciate comments addressing: (1) The practical utility of the collections; (2) the accuracy of the Department's estimated burden of the collections; (3) ways to enhance the quality, utility, and clarity of the information required by these collections; and (4) ways to minimize the burden of collections on respondents, including the use of automated collection techniques or other forms of information technology.

Comments, to DMS or OIRA, must contain the OMB Control Numbers of all ICRs addressed. Comments to DMS must contain the docket number of this request, USCG 2000-7379. Comments to OIRA are best assured of having their full effect if OIRA receives them 30 or fewer days after the publication of this request.

Information Collection Requests

1. Title: Understanding how Mariners use Aids to Navigation-A

Systems-Analysis Project for the U.S. Coast Guard Research and Development Center.

OMB Control Number: 2115-0644.

Type of Request: Extension of currently approved collection.

Affected Public: Navigators of vessels.

Form(s): N/A.

Abstract: The survey is being done under the mandates of the National Performance Review and Executive Order 12802. It will enable program officers in aids to navigation (AtoN) to assess navigational risk, implement appropriate AtoN strategies, and measure the effectiveness of the program in reducing the number of vessel collisions, allisions, and groundings.

Annual Estimated Burden Hours: The estimated burden is 1624 hours a year.

Dated: September 5, 2000.
V.S. Crea,
Director of Information and Technology.

[FR Doc. 00-23261 Filed 9-8-00; 8:45 am]

BILLING CODE 4910-15-P